CORPORATION FOR NATIONAL AND COMMUNITY SERVICE

Revision of Currently Approved Information Collection; Comment Request

AGENCY: Corporation for National and Community Service.

ACTION: Notice for public comments.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. This form is available in alternative formats. Individuals who use a telecommunications device for the deaf (TTY/TDD) may call (202) 565-2799 between the hours of 9 a.m. and 4:30 p.m. Eastern time, Monday through Friday.

Currently, the Corporation is soliciting comments concerning the revision of its National Senior Service Corps Project Grant Application (OMB Control Number 3045-0035, with an expiration date of 12/31/2000). Copies of the information collection request can be obtained by contacting the office listed below in the ADDRESSES section of this notice.

DATES: Written comments must be submitted to the office listed in the ADDRESSES section by October 10, 2000.

ADDRESSES: Send comments to the Corporation for National and Community Service, National Senior Service Corps, Attn: Peter L. Boynton, Program Officer, 1201 New York Avenue, N.W., Washington, D.C., 20525.

FOR FURTHER INFORMATION CONTACT: Peter Boynton, (202) 606-5000, ext. 499, or e-mail to pboynton@cns.gov.

SUPPLEMENTARY INFORMATION:

Comment Request

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g. permitting electronic submission of responses.

Background

The National Senior Service Corps Grant Application is submitted by prospective grantees to apply for or renew sponsorship of projects under the National Senior Service Corps Programs—the Retired and Senior Volunteer Program (RSVP), Foster Grandparent Program (FGP), Senior Companion Program (SCP), and/or Senior Corps Demonstration Program. The application serves as the foundation for making award decisions. Completion of the application is required to obtain or retain sponsorship of a Senior Corps local project.

Current Action

The Corporation proposes to revise the National Senior Service Corps Grant Application in order to: (1) Reflect evolution in programming that places greater emphasis on measurable accomplishments and impact in the community and meeting the requirements of the Government Performance and Results Act (GPRA); (2) streamline the instructions for greater clarity and ease of completion; (3) eliminate redundant or unused sections and/or pages, such as the Five Element Statement page; (4) standardize submission of certain types of information, such as the Active Volunteer Station Lists; (5) strengthen the project work plan as a more comprehensive planning and reporting tool; and (6) update current page 13 “NSSC 3-Digit Issue Area and Service Category Codes” to correspond to the National Senior Service Corps' OMB-approved revised Project Progress and Volunteer Activity (PPVA) data collection form.

Once finalized and approved, the Grant Application will be completed by all public and private, non-profit organizations applying for National Senior Service Corps sponsorship when the proposed grant start date will be July 1, 2001 or thereafter. Three year approval of the Grant Application is proposed.

Type of Review: Revision of a currently approved collection.

Agency: Corporation for National and Community Service.

Title: National Senior Service Corps Project Grant Application.

OMB Number: 3045-0035.

Agency Number: 424-NSSC.

Affected Public: Prospective sponsors for National Senior Service Corps Grants.

Total Respondents: 1,634.

Frequency: Annual, with exceptions.

Average Time Per Response: 16.58 hours.

Estimated Total Burden Hours: 27,769 hours.

Total Burden Cost (capital/startup): None.

Total Burden Cost (operating/maintenance): $3,325.

Comments submitted in response to this notice will be summarized and/or included in the request for Office of Management and Budget approval of the information collection request; they will also become a matter of public record.

Dated: August 7, 2000.
Teresa Scannell,
Deputy Director, National Senior Service Corps.

[FR Doc. 00-20356 Filed 8-10-00; 8:45 am]

BILLING CODE 6050-28-U